DEPARTMENT OF JUSTICE

National Institute of Corrections

Solicitation for a Cooperative Agreement—Evaluating Early Access to Medicaid as a Reentry Strategy

AGENCY: National Institute of Corrections, U.S. Department of Justice.

ACTION: Solicitation for a Cooperative Agreement.

SUMMARY: The National Institute of Corrections (NIC) Administration Division is seeking applications for the development, implementation, and evaluation of a project to assess the effects of access to Medicaid at the time of release from incarceration on reentry outcomes, including health care utilization, employment success, and recidivism. The recipient of the award will work in a partnership with the selected state's prisons, jails, and Medicaid agency to implement and evaluate the project. This project will be conducted over a 36-month period. This cooperative agreement is a collaborative project between the National Institute of Corrections and the Office of the Assistant Secretary for Planning and Evaluation (ASPE), U.S. Department of Health of Human Services (HHS).

To be considered, applicants must demonstrate at a minimum (1) In-depth knowledge of the criminal justice and healthcare fields, (2) experience working with local jails, state prisons, and state Medicaid agencies, (3) the capacity to engage local jails, state prisons, and state Medicaid agencies participation in this project, and (4) the experience and organizational capacity to carry out the goals of this project.

DATES: Applications must be received by 4 p.m. (EDT) on August 11, 2011.

ADDRESSES: Mailed applications must be sent to: Director, National Institute of Corrections, 320 First Street NW., Room 5002, Washington, DC 20534. Applicants are encouraged to use Federal Express, UPS, or similar service to ensure delivery by the due date as mail at NIC is sometimes delayed due to security screening.

Hand-delivered applications should be brought to 500 First Street, NW., Washington, DC 20534. At the front desk, dial (202) 307-3106, extension 0 for pickup.

Faxed and e-mailed applications will not be accepted; however, electronic applications can be submitted via http://www.grants.gov.

FOR FURTHER INFORMATION CONTACT: A copy of this announcement and links to the required application forms can be downloaded from the NIC Web site at http://www.nicic.gov/cooperativeagreements.

All technical or programmatic questions concerning this announcement should be directed to CDR Anita E. Pollard, Corrections Health Manager, National Institute of Corrections. CDR Pollard can be reached by e-mail at apollard@bop.gov. In addition to the direct reply, all questions and responses will be posted on NIC's Web site at http://www.nicic.gov for public review. (The names of those submitting questions will not be posted.) The Web site will be updated regularly and postings will remain on the Web site until the closing date of this cooperative agreement solicitation. Only questions received by 12 p.m. (EDT) on August 2, 2011 will be answered.

SUPPLEMENTARY INFORMATION: Overview: The reentry period is associated with increased risk of re-arrest, medical problems, and death. Many individuals reenter the community with significant health problems, yet few have access to any public or private health insurance upon release from incarceration. (S. E. Wakeman, M. E. McKinney, and J. D. Rich. (2009). “Filling the Gap: The Importance of Medicaid Continuity for Former Inmates.” Journal of General Internal Medicine 24 (7): 860-62.) NIC is seeking solicitations for a project that will develop a replicable process for including enrollment in Medicaid as part of reentry programming in prisons and jails. The project will also evaluate whether timely access to healthcare contributes to increased positive integration into the community after release by measuring changes in healthcare utilization, employment, and recidivism using random assignment or other rigorous statistical techniques for measuring impacts. The focus population consists of incarcerated individuals who are returning to the community and who are reasonably expected to be eligible upon release for federal or state funded Medicaid services under a variety of special state Medicaid provisions. The project's activities will also inform the design of Medicaid enrollment strategies for this low-income, childless adult population expected to be included in the 2014 Medicaid coverage expansion under the Affordable Care Act.

Background: A large share of the individuals who cycle through America's jails and prisons are poor, minority, and male. At the end of 2009, 93 percent of state and Federal prison inmates were male and black males had an imprisonment rate (3,119 per 100,000 U.S. residents) that was more than 6 times higher than white males (487 per 100,000), and almost 3 times higher than Hispanic males (1,193 per 100,000). (R. H. Lamb and L. E. Weinberger, “Persons with Severe Mental Illness in Jails and Prisons: A Review,” Psychiatric Services 49 (April 1998):483-92.) Rates of mental illness, substance use and abuse, infectious disease, and chronic health problems are higher among jail and prison inmates than for the general U.S. population. Results of several studies of jail and prison populations suggest that rates are three to seven times higher for incarcerated individuals compared to the general population, depending on the condition. One study of reentering individuals found that nearly four in 10 men and six in 10 women have a combination of physical health, mental health, and substance abuse conditions. Not only do these conditions pose health risks, but they can contribute to criminal behavior if untreated or inadequately treated during incarceration and following release.

Individuals reentering society after incarceration often encounter a number of barriers. Research suggests that helping to ensure that reentering individuals can meet their basic needs can lead to better outcomes for those individuals, including lower rates of recidivism. Severe or unmanaged health problems increase the risk of adverse outcomes, i.e. physical illness, relapse, etc. Reentering individuals with health problems report more problems finding employment and physical and mental health conditions often interfere with their ability to work. Among the general reentering population, employment is shown to reduce one's odds of returning to jail or prison. However, returning offenders with debilitating health conditions have reentry experiences that vary greatly from the average reentering individual. Successful treatment of reentering individuals' health conditions could increase rates of reentry success by improving their ability to work, support themselves, and abstain from substance use, all of which have been shown to contribute to decreased recidivism. (K. Mallik-Kane and C. Visher, Health and Prisoner Reentry: How Physical, Mental, and Substance Abuse Conditions Shape to Process of Reintegration, Washington, DC: Urban Institute, 2008).

Jails and prisons are responsible for providing medical care while individuals are incarcerated, but that care typically ends as soon as individuals are released back to the community. Continuity of care between the correctional facility and the community is a critical factor in this, providing crucial support to individuals as they strive to comply with conditions of release. However, upon release, most individuals have few options for receiving necessary healthcare, including addiction and mental health treatment. Correctional jurisdictions make significant investments in the health of incarcerated individuals; access to affordable healthcare post-release increases the value of those investments and may reduce future corrections spending.

The results of several studies suggest that between 50 and 90 percent of the criminal justice-involved population lacks health insurance when released from prison or jail. Low levels of employment and income among the formerly incarcerated reduce their ability to obtain affordable health insurance and partially explain the low level of coverage among this population. (D. Mancuso and B.E.M. Felver (2010) “Health Care Reform, Medicaid Expansion and Access to Alcohol/Drug Treatment: Opportunities for Disability Prevention.” RDA Report 4.84. Washington Department of Social and Health Services, Research and Data Analysis Division, Olympia, Washington; C. Redcross, D. Bloom, G. Azurdia, J. Zweig, and N. Pindus. (2009). “Transitional Jobs for Ex-Prisoners Implementation, Two-Year Impacts, and Costs of the Center for Employment Opportunities (CEO) Prisoner Reentry Program.” MDRC for the U.S. Dept. of Health and Human Services, Office of Planning Research and Evaluation. Washington, DC; E.A. Wang, M.C. White, R. Jamison, J. Goldenson, M. Estes and J.P. Tulsky. (2008) “Discharge Planning and Continuity of Health Care: Findings from the San Francisco County Jail.” American Journal of Public Health, 98 (12): 2182-84.; K. Mallik-Kane and C. A. Visher. (2008) “Health and Prisoner Reentry: How Physical, Mental, and Substance Abuse Conditions Shape the Process of Reintegration.” Urban Institute Justice Policy Center: Washington, D.C.; B. DiPietro. Frequently Asked Questions: Implications of the Federal Legislation on Justice Involved Populations. New York: Council of State Governments Justice Center, 2011.)

In March of 2010, the Patient Protection and Affordable Care Act (PPACA), Public Law 111-148 and the Health Care and Education Reconciliation Act, Public Law 111-152 were passed and signed into law and together became known as the Affordable Care Act, or health care reform. One of the most notable elements of the Affordable Care Act is its 2014 expansion of Medicaid eligibility to individuals at or below 133 percent of the federal poverty level. This will dramatically increase the Medicaid-eligible population. A Congressional Budget Office (CBO) analysis estimates that an additional 16 million individuals will be eligible for Medicaid beginning in 2014. Included in that population are many of the 9 million individuals who cycle through American jails and the over 725,000 individuals who are released from prison every year. Many of these individuals have significant health needs but, in most states, are not currently eligible for enrollment in Medicaid. (Congressional Budget Office. 2010. “Letter to Nancy Pelosi on H.R. 4872, Reconciliation Act of 2010 (Final Health Care Legislation).” Washington, DC: Congressional Budget Office, March 20; S. Somers, A. Hamblin, J. Verdier, and V. Byrd. August 2010 “Covering Low-Income Childless Adults in Medicaid: Experiences from Selected States.” Center for Health Care Strategies and Mathematica Policy Research, Inc.)

The changes occurring as a result of healthcare reform will significantly affect the ways in which justice involved individuals can access public health insurance and services. Estimates indicate that at least 35 percent of new Medicaid eligibles under the Affordable Care Act will have a history of criminal justice system involvement. (Calculations based on the estimated size of newly eligible population, the size of the justice involved population and the share of that population without insurance.) This overlap between the reentering population and Medicaid eligibles provides the opportunity to jumpstart the enrollment process for health care coverage through Medicaid on a broader scale as part of the reentry planning process. It also allows for the evaluation of the association between expanding access to treatment and health services and reentry outcomes. Particularly, it provides a framework for evaluating the interconnectedness of health status, employment, and recidivism. Additionally, this provides a mechanism for studying targeted outreach and enrollment strategies for one large subgroup of those newly eligible for Medicaid in 2014.

NIC/DOJ and ASPE/HHS are committed to promoting risk reduction through the use of evidence-based policies and practices. One way to reduce risk among individuals reentering the community from prison or jail is to ensure continuity of care between the detention facility and the community. Effective continuity of care increases treatment benefits and opportunities for successful reintegration, strengthens already invested treatment resources, and decreases health and safety risks among reentering individuals and the communities to which they return. Some local jails and state corrections institutions currently include pre-release application for Medicaid as a part of the reentry planning process. The Bazelon Center for Mental Health Law, an advocacy organization for people with mental disabilities, has made a strong case for incorporating assistance to benefits, such as Medicaid, a part of reentry programming. Reentry activities that connect individuals to Medicaid often include providing active assistance with the application processes and linking individuals to community providers. Research has found a positive relationship between access to healthcare upon reentry and a number of outcomes related to improved well-being although, most of this research focuses on individuals with severe mental illness. These positive effects include reduced recidivism and reduced health care costs. (Bazelon Center for Mental Health Law. (2009) LIFELINES: Linking to Federal Benefits for People Exiting Corrections. Volumes 1, 2, and 3. Washington, DC; D. Mancuso and B.E.M. Felver (2010) “Health Care Reform, Medicaid Expansion and Access to Alcohol/Drug Treatment: Opportunities for Disability Prevention.” RDA Report 4.84. Washington Department of Social and Health Services, Research and Data Analysis Division, Olympia, Washington; A. T. Wenzlow, H. T. Ireys, B. Mann, C. Irvin, & J. Teich. (2011) “Effects of a Discharge Planning Program on Medicaid Coverage of State Prisoners with Serious Mental Illness.” Psychiatric Services, 62(1): 73-78).

NIC and ASPE are expanding on earlier research by examining the provision of Medicaid enrollment assistance and its effect on reentry outcomes for all Medicaid-eligible individuals reentering the community from jail or prison. The reentry population may face numerous challenges in applying for Medicaid, including low literacy levels, poor mental health and functioning, incomplete personal identification and lack of documentation. Addressing these challenges as a part of the reentry planning process will facilitate the development of evidence-based practices for connecting a population with unique and complicated needs to health services in the community.

Purpose: This project will evaluate how application assistance during incarceration and enrollment in Medicaid at the time of release from incarceration affects three outcomes related to individual and community well-being: (1) Healthcare utilization, (2) employment, and (3) recidivism. Without adequate access to healthcare and treatment, individuals reentering the community from jail or prison can contribute to decreased public safety, create additional financial burdens on the public health system, and be less likely to find and maintain employment. This model requires cooperation and collaboration among local jails, state corrections, parole and probation (if under supervision), and Medicaid agencies to provide access to continuing community-based healthcare following release. States have developed systems to assist other vulnerable populations, such as homeless and domestic violence populations, with benefits applications, but these processes may not have been adapted or extended to the reentry population. Enrollment in Medicaid capitalizes on treatment provided in the jail or prison setting and offers necessary support for an individual to comply with conditions of release. If shown as an effective practice for increasing access to healthcare and increasing successful reentry outcomes, this strategy would be a win-win for states by improving the effectiveness of both corrections and Medicaid agencies and potentially reducing long-term costs.

Scope of Work: The cooperative agreement awardee will design, implement, and evaluate a project that addresses the following research questions: (1) What are the institutional challenges for local jails, state corrections departments, and Medicaid agencies in implementing a pre-release application process? What application processes has the state developed and do they consider individuals who may have difficulty providing standard documentation or social security numbers (SSNs)? How do they help these groups, and does this vary by online, fax, and other modalities? (2) Does the implementation of a pre-release Medicaid application process lead to greater and faster enrollment in Medicaid than waiting until after release? (3) Does the pre-release Medicaid application process result in greater and timelier use of community healthcare services? (4) How does the relationship between pre-release application for Medicaid and actual enrollment and utilization of Medicaid vary across subgroups? (5) What is the impact of the pre-release application process and Medicaid enrollment on employment success, as measured, for example, by earnings? How does this relationship vary across subgroups? (6) What is the effect of the program on recidivism, as mediated or moderated by healthcare access and utilization? Does this relationship have subgroup variation?

A schedule of activities for this project shall include, at a minimum, the following:

(1) Identification of an appropriate evaluation site(s) among states that either (a) currently have a Section 1115 Medicaid demonstration waiver to cover childless adults; (b) are early adopters of the Medicaid expansion under the Affordable Care Act; or, (c) use state-only funding to extend public health insurance coverage to childless adults. (See appendix A for a list of likely states.)

(2) Selection of sites using criteria established by NIC and ASPE. (a) Scale shall be a primary criterion for site selection. The cohort of prisoners in the queue for release must be large enough that early findings on the take-up rates can be generated within the first 15 months of the project. (b) The level of statistical rigor allowed by the site selection is a second criterion. Sites that allow random assignment to treatment and control groups of individuals within an institution or of facilities within a state are preferable to those that allow for only a comparison group. (c) States' willingness to and ability to conduct statistical data matching for the evaluation is a third criterion. (d) Adequate sample size is a fourth criterion. The sample of individuals must be such that rigorous statistical techniques can be employed to determine subgroup outcomes.

(3) Design and facilitation of project implementation through: (a) Providing assistance to the sites in the development of an appropriate reentry Medicaid application process; (b) Helping states identify resources, including reallocation of existing reentry programming resources and recruitment of volunteers to implement the project; (c) Assisting states in developing Memorandums of Understanding (MOUs) for data exchange between state corrections, local jails, Medicaid agencies, and state repositories of employment information. Information on employment is most likely available from the quarterly wage data available through the state unemployment insurance agency or state child support enforcement program. The state child support enforcement agency also maintains the state directory of new hires which has information on all new job starts.

(4) Design and conduct of random assignment project evaluation, which includes using the analyses of matched data using appropriate statistical methodologies to determine the relationship between early access to Medicaid and the previously identified outcomes of interest: (a) Healthcare utilization, (b) employment success, and (c) recidivism.

These are the minimum project requirements. Procedurally the award recipient will also be responsible for preparing documents that may be required by NIJ to obtain approvals and clearances associated with the Privacy Act, Paperwork Reduction Act, and Protection of Human Subjects.

Applicants are also encouraged to approach other funding partners to expand the scope of the demonstration to include access to additional benefits, such as food stamps (SNAP); to consider supplemental data collection strategies such as participant surveys; and to implement the project in additional sites. These expansions will be subject to the approval of NIC and ASPE.

Key issues and challenges for this project include: Recruitment of sites where both the corrections and Medicaid agencies are willing to participate and exchange information; Reducing the barriers to establishing institution-spanning collaborations given state and local government fiscal constraints; Differences in the reentry planning processes in jail and prison environments; Confidentiality restrictions that may impede the development of shared data agreements between state and local corrections, Medicaid, and child support agencies; Collection of data on healthcare utilization among non-Medicaid users in both the treatment and control groups; Development of an experimental evaluation design given the constraints that accompany research conducted in corrections environments; Capacity of communities to provide additional healthcare services to newly eligible populations; Medicaid requirements for verifiable identification as part of the enrollment process and to access services; Consistent transition planning across disciplines. Post release parole or probation supervision, when ordered, plays an important role in potential success or failure of transitional planning, but will probably be administered by a separate agency.

The applicant must address the issues and challenges identified above by describing why each issue is important and propose strategies for successfully addressing each challenge. Applicants are encouraged to identify and address additional issues and challenges that they believe will significantly affect the successful implementation of this project.

Project deliverables include: A site selection memorandum that lays out what sites were considered, the criteria for site selection, and the site recommendation (year 1); An implementation report that details the design of the demonstration implementation challenges and how those challenges were met (year 2); A policy brief on initial findings related to Medicaid enrollment (year 2); A report on project impacts at 12 months post release (year 3).

If additional resources are made available in subsequent years, additional deliverables may include: A replicability toolkit for the field with sections that apply to local jails, state prisons, and Medicaid agencies (year 4); and A report on project impacts at 24 months post release (year 5).

Document Preparation: For all awards in which a document will be a deliverable, the awardee must follow the Guidelines for Preparing and Submitting Manuscripts for Publication as found in the “General Guidelines for Cooperative Agreements,” which will be included in the award package. All final publications submitted for posting on the NIC Web site must meet the federal government's requirement for accessibility (508 PDF and 508 HTML file or other acceptable format). All documents developed under this cooperative agreement must be submitted in draft form to NIC for review before the final products are delivered. NIC will manage the concurrent review with ASPE.

Meetings: The cooperative agreement awardee, with subject matter experts, will attend an initial meeting with the ASPE and NIC staff for a project overview and preliminary planning. This will take place shortly after the cooperative agreement is awarded and will be held in Washington, DC. The meeting will last up to 2 full days.

The awardee, with subject matter experts, should also plan to meet with ASPE and NIC staff at least two more times during the course of the project. These meetings will last up to 2 days and may focus on project development and updates. Only one of these meetings will be held in Washington, DC.

The awardee, with subject matter experts, should plan to meet via WebEx several times at key points during the project for updates and project development activities. NIC will host these meetings, which will last up to 2 hours. The meeting itself will be at NIC's expense, but fees for project staff who attend the meeting will be charged to the cooperative agreement.

Application Requirements: An application package must include: OMB Standard Form 424, Application for Federal Assistance; A cover letter that identifies the audit agency responsible for the applicant's financial accounts as well as the audit period or fiscal year under which the applicant operates (e.g., July 1 through June 30); An outline of projected costs with the budget and strategy narratives described in this announcement; and a project summary/abstract. The following additional forms must also be included: OMB Standard Form 424A—Budget Information—Non-Construction Programs; OMB Standard Form 424B, Assurances—Non-Construction Programs (both available at http://www.grants.gov); DOJ/FBOP/NIC Certification Regarding Lobbying, Debarment, Suspension and Other Responsibility Matters; The Drug-Free Workplace Requirements (available at http://www.nicic.org/Downloads/PDF/certif-frm.pdf).

Applications should be concisely written, typed double-spaced and reference the project by the NIC opportunity number and title referenced in this announcement. If you are hand delivering or submitting via Fed-Ex, please include an original and three copies of the full proposal (program and budget narrative, application forms, assurances and other descriptions). The originals should have the applicant's signature in blue ink. Electronic submissions will be accepted only via http://www.grants.gov.

The project summary/abstract portion of the application should include a summary of the application's project description and a brief description of the critical elements of the proposed project. The summary must be clear, accurate, concise, and without reference to other parts of the application. The brief description must include the needs to be addressed, the goals and objectives for the project, and how the strategies proposed meet those goals and objectives.

Please place the following at the top of the abstract: Project title; Applicant name (Legal name of applicant organization); Mailing address; Contact phone numbers (voice, fax); E-mail address; Web site address, if applicable.

The Project Summary/Abstract must be single-spaced and limited to one page in length.

The narrative portion of the application should include, at a minimum, the following sections.

A Statement indicating the applicant's understanding of the project's purpose, goals and objectives. The applicant should state this in language other than that used in the solicitation (i.e., do not simply repeat the wording from the solicitation).

Project Design and Implementation: This section should describe how the applicant proposes to assist the sites in the design and implementation of the project and how the key design and implementation issues and challenges will be addressed.

Project Evaluation: This section will lay out the proposed random assignment or other statistically rigorous evaluation strategy for the project and how key evaluation issues and challenges will be addressed.

Project Management: In this section, the applicant will provide a chart of measurable project milestones and timelines for the completion of each milestone.

Capabilities and Competencies: This section should describe the qualifications of the applicant organization and any partner organizations doing the work proposed and the expertise of key staff to be involved in the project. Attach resumes that document relevant knowledge, skills, and abilities to complete the project for the principle investigator and each staff member assigned to the project. If the applicant organization has completed similar projects in the past, please include the URL/Web site or ISBN number for accessing a copy of the referenced work.

Budget: The budget should detail all costs for the project, show consideration for all contingencies for the project, note a commitment to work within the proposed budget, and demonstrate the ability to provide deliverables reasonably according to schedule.

The narrative portion of the application should not exceed 30 double-spaced typewritten pages, excluding attachments related to the credentials and relevant experience of staff.

Authority: Public Law 93-415.

Funds Available: NIC is seeking the applicant's best ideas regarding accomplishment of the scope of work and the related costs for achieving the goals of this solicitation. Funds may be used only for the activities linked to the desired outcome of the project. The funding amount should not exceed $500,000. There is no match required under this announcement but applicants may include commitments from other funding partners to expand the scope of the demonstration to include access to additional benefits; to propose supplemental data collection strategies such as participant surveys; to implement the project in additional sites; and for other enhancements related to this project. The approval of these collaborative efforts is subject to the written approval of NIC and ASPE.

Eligibility of Applicants: Eligible applicants include non-profit and for-profit entities, public and private institutions of higher education, individuals, organizations, and private agencies. Applicants must have: Demonstrated capacity in designing, implementing, and evaluating projects in correctional settings; Subject matter expertise in best practices in pre-release planning and services; Subject matter expertise in prison/jail transitions to community; Subject matter expertise in Medicaid eligibility for childless adults under current law and under implementation of the Affordable Care Act provisions for expansion to this population in 2014; Subject matter expertise in healthcare access issues for individuals re-entering the community from prison or jail.

Applicants may partner with other entities to bring the full range of subject matter expertise to the proposal. The approval of these collaborative efforts is subject to the written approval of NIC and ASPE. Applicants must have demonstrated ability to implement a project of this size and scope.

Review Considerations: Applications received under this announcement will be subject to a collaborative NIC and ASPE review process. The criteria for the evaluation of each application will be as follows:

Programmatic: 40 Points.

Are all of the project research questions and activities adequately discussed? Is there a clear description of how each project activity will be accomplished, including major tasks, the strategies to be employed, required staffing, responsible parties, and other required resources? Are there any unique or exceptional approaches, techniques, or design aspects proposed that will enhance the project?

Project Management and Administration: 20 Points. Does the applicant identify reasonable objectives, milestones, measures to track progress? Are the proposed management and staffing plans clear, realistic, and sufficient to carry out the project? Is the applicant willing to meet with NIC and ASPE, at a minimum, as specified in the solicitation for this cooperative agreement?

Organizational and Project Staff Background: 30 Points.

Do the skills, knowledge, and expertise of the organization and the proposed project staff demonstrate a high level of competency to carry out the tasks? Does the applicant/organization have the necessary experience and organizational capacity to carry out all goals of the project? If consultants and/or partnerships are proposed, is there a reasonable justification for their inclusion in the project and a clear structure to ensure effective coordination?

Budget: 10 Points.

Is the proposed budget realistic, does it provide sufficient cost detail/narrative, and does it represent good value relative to the anticipated results? Does the application include a chart that aligns the budget with project activities along a timeline with, at a minimum, quarterly benchmarks? In terms of program value, is the estimated cost reasonable in relation to work performed and project products?

Note: NIC will NOT award a cooperative agreement to an applicant who does not have a Dun and Bradstreet Database Universal Number (DUNS) and is not registered in the Central Contractor Registry (CCR).

Applicants can obtain a DUNS number at no cost by calling the dedicated toll-free DUNS number request line at 1-800-333-0505. Applicants who are sole proprietors should dial 1-866-705-5711 and select option 1.

Applicants may register in the CRR online at the CCR Web site, http://www.ccr.gov. Applicants can also review a CCR handbook and worksheet at this Web site.

Number of Awards: One.

NIC Opportunity Number: 11AD10. This number should appear as a reference line in the cover letter, where indicated on Standard Form 424, and outside of the envelope in which the application is sent.

Catalog of Federal Domestic Assistance Number: 16.602

Executive Order 12372: This project is not subject to the provisions of Executive Order 12372.

NIC expects this award to be signed by September 13, 2011.

Morris L. Thigpen,
Director, National Institute of Corrections.

Appendix A

The states listed below are likely to be appropriate evaluation sites because they either (a) Currently have a Section 1115 Medicaid demonstration waiver to cover childless adults; (b) are early adopters of the Medicaid expansion under the Affordable Care Act; or, (c) use state-only funding to extend public health insurance coverage to childless adults.

Section 1115 Medicaid Waivers: Wisconsin, Maine, Indiana (expires end of 2012), New York, Vermont, California.

Early Medicaid Expansion Adopters: Connecticut, District of Columbia, Minnesota.

State-only Coverage of Childless Adults: District of Columbia, Washington, Minnesota, Pennsylvania, Massachusetts.

[FR Doc. 2011-16844 Filed 7-5-11; 8:45 am]

BILLING CODE 4410-36-P